DEPARTMENT OF ENERGY

Federal Energy Regulatory Commission

[Docket No. CP15-521-000]

Gulf LNG Liquefaction Company, LLC, Gulf LNG Energy, LLC, Gulf LNG Pipeline, LLC; Notice of Reopening of Comment Period

On November 15, 2018, the Commission issued a notice setting January 7, 2019, as the end of the formal period to file comments on the Gulf LNG Liquefaction Project draft environmental impact statement. Due to the funding lapse at certain federal agencies between December 22, 2018 and January 25, 2019, the Commission is reopening the comment period until February 25, 2019.

Dated: February 7, 2019.
Kimberly D. Bose,
Secretary.

[FR Doc. 2019-02142 Filed 2-12-19; 8:45 am]

BILLING CODE 6717-01-P